DEPARTMENT OF AGRICULTURE

Forest Service

Madera County Resource Advisory Committee

AGENCY: Forest Service, USDA.

ACTION: Notice of meeting.

SUMMARY: The Madera County Resource Advisory Committee will be meeting in North Fork, California on June 16th and on July 21st. The purpose of these meetings will be to make decisions on how to accept and review project proposals for the next funding cycle as authorized under the Secure Rural Schools and Community Self-Determination Act of 2000 (Pub. L. 110-343) for expenditure of Payments to States Fresno County Title II funds.

DATES: The meetings will be held on January 13, 2010 from 6 p.m. to 8:30 p.m. in Prather, CA and January 27, 2010 from 6 p.m. to 8:30 p.m. in Clovis, CA.

ADDRESSES: The meetings will be held at the Bass Lake Ranger District, 57003 Road 225, North Fork, California 93643. Send written comments to Julie Roberts, Madera County Resource Advisory Committee Coordinator, c/o Sierra National Forest, Bass Lake Ranger District, at the above address, or electronically to jarobertsfs.fed.us.

FOR FURTHER INFORMATION CONTACT: Julie Roberts, Madera County Resource Advisory Committee Coordinator, (559) 877-2218 ext. 3159.

SUPPLEMENTARY INFORMATION: The meetings are open to the public. Committee discussion is limited to Forest Service staff and Committee members. However, persons who wish to bring Payments to States Madera County Title II project matters to the attention of the Committee may file written statements with the Committee staff before or after the meetings. Agenda items to be covered include: (1) Discuss and agree on general operating procedures (2) elect a RAC Chair, (3) review past proposals and (4) discuss conditions and parameters for accepting future proposals.

Dated: May 24, 2010.
Dave Martin,
District Ranger.

[FR Doc. 2010-13352 Filed 6-3-10; 8:45 am]

BILLING CODE 3410-11-M